DEPARTMENT OF HEALTH AND HUMAN SERVICES

Substance Abuse and Mental Health Services Administration

Center for Mental Health Services; Notice of Meeting

Pursuant to Public Law 92-463, notice is hereby given of a Telephone Conference meeting of the Center for Mental Health Services (CMHS) National Advisory Council in September 2002.

The meeting will include the review, discussion and evaluation of individual grant applications.

Therefore the meeting will be closed to the public as determined by the Administrator, SAMHSA, in accordance with Title 5 U.S.C. 552b (c)(6) and 5 U.S.C. App. 2. & 10 (d).

A summary of the meeting and a roster of Council members may be obtained from: Ms. Tracey Cooper, Committee Management Officer, CMHS National Advisory Council, 5600 Fishers Lane, Room 15-105, Rockville, Maryland 20857. Telephone: (301) 443-1158. Substantive program information may be obtained from the person listed below.

Committee Name: Center for Mental Health Services National Advisory Council.

Meeting Date: September 23, 2002 (Closed).

Time: 12 p.m.-2 p.m.

Place: Parklawn Building, 5600 Fishers Lane, Conference Room 17-94, Rockville, Maryland 20857.

Contact: Eileen S. Pensinger, M.Ed., 5600 Fishers Lane, Parklawn Building, Room 17C-14, Rockville, Maryland 20857, Telephone: (301) 443-4823.

Dated: September 8, 2002.
Toian Vaughn,
Committee Management Officer, Substance Abuse and Mental Health Services Administration.

[FR Doc. 02-24162 Filed 9-23-02; 8:45 am]

BILLING CODE 4162-20-P